DEPARTMENT OF HEALTH AND HUMAN SERVICES

Office of the Secretary

[Document Identifier: OS-0990-0001]

Agency Information Collection Activities: Submission for OMB Review; Comment Request

AGENCY: Office of the Secretary, HHS.

In compliance with the requirement of section 3506(c)(2)(A) of the Paperwork Reduction Act of 1995, the Office of the Secretary, Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a currently approved collection.

Title of Information Collection: Waiver of the Two-Year Home-Country Physical Presence Requirement for Physician Exchange Visitors to Deliver Health Care Services in Underserved Areas and Supporting regulations 45 CFR part 50.1 through 50.8; Form No.: OMB# 0938-0001; Use: Section 50.4 of the interim final rule published in the Federal Register Vol. 67, No. 244, page 77692, on December 19, 2002 contains information collection requirements currently approved under OMB Control Number 0990-0001. Sections 50.5(e)(4) and (5) of the rule contain disclosure requirements. Section 50.5(e)(4) requires facilities or practices sponsoring an Exchange Visitor waiver request for the delivery of health care to post a notice of the charges for services. On an annual basis it is estimated that it will take 300 practices one hour each to prepare and post such notices. The total annual burden associated with this requirement is 300 hours. Section 50.5(e)(5) of the rules contains the requirements for the submission of evidence that the applicant made unsuccessful efforts to recruit a U.S. physician. The burden associated with these requirements is the time and effort necessary for an applicant to submit the documentation. On an annual basis it is estimated that it will take 300 applicants two hours each to prepare and submit this documentation. The total annual burden associated with this requirement is 600 hours. As a note we are requesting approval of the revised forms that are currently approved under OMB number 0990-0001, which are used by the public to comply with the information collection requirements contained in the interim final rule denoted above.

Frequency: On Occasion.

Affected Public: Individuals, Organizations.

Number of Respondents: 600 (300 facilities/300 applicants).

Total Annual Responses: 600.

Total Annual Hours: 900 (300 facilities/600 applicants).

To obtain copies of the supporting statement and any related forms for the proposed paperwork collections referenced above, or E-mail your request, including your address, phone number, OS document identifier, to John.Burke@hhs.gov, or call the Reports Clearance Office on (202) 690-8356. Written comments and recommendations for the proposed information collections must be mailed within 30 days of this notice directly to the OMB desk officer: OMB Human Resources and Housing Branch, Attention: Allison Eydt (OMB #0990-0001), New Executive Office Building, Room 10235, Washington, DC 20503.

Dated: March 10, 2003.
John P. Burke, III,
Paperwork Reduction Act Reports Clearance Officer, Office of the Secretary, Department of Health and Human Services.

[FR Doc. 03-7110 Filed 3-25-03; 8:45 am]

BILLING CODE 4165-15-P